ENVIRONMENTAL PROTECTION AGENCY

[FRL-7589-3]

Notice of Extension of Public Comment Period on the Document Entitled Guidance on Selecting the Appropriate Age Groups for Assessing Childhood Exposures to Environmental Contaminants (External Review Draft)

AGENCY: Environmental Protection Agency (EPA).

ACTION: Notice of extension of public comment period.

SUMMARY: This notice extends the comment period for the document entitled Guidance on Selecting the Appropriate Age Groups for Assessing Childhood Exposures to Environmental Contaminants. (External Review Draft). The availability of this document was originally announced in the Federal Register on September 22, 2003 (68 FR 55047 ).

DATES: Comments must be received by Monday December 22, 2003.

ADDRESSES: The document is available via the Internet from http://cfpub.epa.gov/ncea/raf/recordisplay.cfm?deid=55887. Instructions for submitting comments are provided in the July 30, 2003 Federal Register notice, which is accessible from this website.

FOR FURTHER INFORMATION CONTACT: Marilyn Brower, Risk Assessment Forum Staff (8601D), 1200 Pennsylvania Ave. NW., Washington, DC 20460; telephone: 202-564-3363; fax: 202-565-0061; e-mail: brower.marilyn@epa.gov.

SUPPLEMENTARY INFORMATION: In the September 22, 2003 Federal Register (68 FR 55047), EPA announced the availability of, and opportunity to comment on, the document entitled Guidance on Selecting the Appropriate Age Groups for Assessing Childhood Exposures to Environmental Contaminants. (External Review Draft, February, 2003, EPA/630/P-03/003A). The comment period was scheduled to close on November 21, 2003. This notice extends the comment period until December 22, 2003. EPA will consider all comments received by this date in finalizing the document.

As announced in the Federal Register September 22, 2003, a panel of external experts, organized by Versar, Inc., a contractor to EPA, will review this document concurrent to the public comment period described in this notice.

Dated: November 14, 2003.
Peter W. Preuss,
Director, National Center for Environmental Assessment.

[FR Doc. 03-29005 Filed 11-19-03; 8:45 am]

BILLING CODE 6560-50-P